GENERAL SERVICES ADMINISTRATION

[OMB Control No. 3090-0163]

Submission for OMB Review and Extension Information Specific to a Contract or Contracting Action (Not Required by Regulation)

AGENCY: General Services Administration (GSA).

ACTION: Notice of request for public comments regarding extension of a currently approved reinstated collection (3090-0163).

SUMMARY: Under the provisions of the Paperwork Reduction Act of 1995 (44 U.S.C. Chapter 35), the General Services Administration (GSA) has submitted to the Office of Management and Budget (OMB) a request to review and approve an extension of a currently approved information collection requirement concerning Information Specific to a Contract or Contracting Action (Not Required By Regulation). A request for public comments was published at 66 FR 23256, May 8, 2001. No comments were received.

DATES: Comments may be submitted on or before September 14, 2001.

FOR FURTHER INFORMATION CONTACT: Beverly Cromer, Acquisition Policy Division, GSA (202) 208-6750.

ADDRESSES: Comments regarding this burden estimate or any other aspect of this collection of information, including suggestions for reducing this burden, should be submitted to: Ed Springer, GSA Desk Officer, OMB, Room 10236, NEOB, Washington, DC 20503, and a copy to Stephanie Morris, General Services Administration, Regulatory Secretariat, 1800 F Street, NW., Room 4035, Washington, DC 20405.

SUPPLEMENTARY INFORMATION:

A. Purpose

The General Services Administration (GSA) has various mission responsibilities related to the acquisition and provision of supplies, transportation, information technology, telecommunications, real property management, and disposal of real and personal property. These mission responsibilities generate requirements that are realized through the solicitation and award of public contracts. Individual solicitations and resulting contracts may impose unique information collection/reporting requirements on contractors, not required by regulation, but necessary to evaluate particular program accomplishments and measure success in meeting special program objectives.

B. Annual Reporting Burden

Respondents: 126,870.

Responses Per Respondent: 1.36.

Total Responses: 172,500.

Hours Per Response: .4.

Total Burden Hours: 68,900.

Obtaining Copies of Proposals: Requester may obtain a copy of the proposal from the General Services Administration, Regulatory Secretariat (MVP), 1800 F Street, NW., Room 4035, Washington, DC 20405, telephone (202) 501-4744. Please cite OMB Control No. 3090-0163, Information Specific to a Contract or Contracting Action (Not Required by Regulation), in all correspondence.

Dated: August 9, 2001.
David A. Drabkin,
Deputy Associate Administrator, Office of Acquisition Policy.

[FR Doc. 01-20484 Filed 8-14-01; 8:45 am]

BILLING CODE 6820-34-P